DEPARTMENT OF HEALTH AND HUMAN SERVICES

National Institutes of Health

Notice of Intent To Prepare an Environmental Impact Statement for the Galveston National Laboratory for Biodefense and Emerging Infectious Diseases Research Facility in Galveston, TX

AGENCY: National Institutes of Health (NIH), HHS.

ACTION: Notice of intent to prepare an environmental impact statement for the Galveston National Laboratory for Biodefense and Emerging Infectious Diseases Research facility in Galveston, TX.

SUMMARY: The Department of Health and Human Services (DHHS), National Institutes of Health (NIH), announces its intent to prepare an environmental impact statement (EIS) to evaluate a proposed new National Laboratory for Biodefense and Emerging Infectious Diseases Research facility in Galveston, TX. This EIS is being prepared and considered in accordance with the requirements of the National Environmental Policy Act (NEPA) of 1969, regulations of the President's Council on Environmental Quality (40 CFR parts 1500-1508), and NEPA Compliance Procedures of the DHHS General Administration Manual, Part 30 (Environmental Protection) February 25, 2000.

Cooperating Agencies: There are not cooperating agencies for this project.

SUPPLEMENTARY INFORMATION: The National Institute of Allergy and Infectious Diseases (NIAID), a component of the NIH, conducts and supports research on infectious diseases and the human immune system. Its resources and expertise have been applied to studying emerging infectious diseases such as SARS, West Nile virus and Lyme disease and organisms that might be used as agents of bioterrorism such as anthrax and tularemia. Knowledge of how these organisms cause disease and the response of the immune system to these organisms is desperately needed. This knowledge will be used to develop new and improved diagnostic tests, vaccines, and therapies to protect civilians.

Since fall 2001, NIAID has greatly accelerated its biodefense research program. Achievement of its research goals requires the construction and certification of biological containment laboratories with facilities and procedures for handling potentially lethal infectious agents. Equally important is the need to minimize potential threats from infectious agents to laboratory personnel working within these facilities and to adjacent communities. The Federal Government has awarded a grant in the amount of $110 million to partially fund the Galveston National Laboratory for Biodefense and Emerging Infectious Diseases Research in Galveston, TX as a crucial element of this NIH initiative.

This proposed action is the funding of the construction of the Galveston National Laboratory for Biodefense and Emerging Infectious Diseases Research facilities in Galveston, TX, a new building comprised of laboratories designed and constructed to Biosafety Levels -2, -3, and -4 standards that will allow the safe conduct of biomedical research concerning emerging infectious diseases including agents of bioterror. The proposed new facility will also contain administrative support offices. It will occupy approximately 1 acre on the campus of the University of Texas Medical Branch at Galveston in Galveston, TX, and will be owned and operated by the university in support of NIAID's Biodefense Research Agenda. The laboratory will also be prepared and available to assist national, state and local public health efforts in the event of a bioterrorism emergency.

Significant issues to be analyzed in the EIS will include safety of laboratory operations; public health and safety; handling, collection, treatment, and disposal of biomedical research waste related to the proposal; and analysis of other risks, as well as concerns for pollution prevention and impacts of the proposed action on air quality, biological resources, cultural resources, water resources, land use, and socioeconomic resources. The No Action alternative under which the new facility would not be built will also be considered. Additional alternatives may be identified during the Scoping Process.

Public Participation: The DHHS will invite full public participation to promote open communication and better decision-making. All interested persons and organizations, including minority, low income, disadvantaged, and Native American groups, are urged to participate in this NEPA environmental analysis process. Assistance will be provided upon request to anyone having difficulty with learning how to participate.

To ensure that the full range of issues related to the proposed action and the scope of this EIS are addressed, oral and written comments are invited from all interested parties, including appropriate Federal, state, and local agencies and private organizations and citizens. Pursuant to this, a Public Scoping meeting will be held on Wednesday, March 31, 2004 from 6 to 8 p.m. in the Mainsail Room, second floor conference center of the San Luis Hotel, 5222 Seawall Boulevard, Galveston, TX.

This Notice of Intent initiates the scoping process that guides the development of the EIS. The DHHS invites written comments and suggestions on the proposed actions, including any issues to consider, as well as any concerns relevant to the analysis. Comments and questions should be directed to the address listed below and should be postmarked no later than May 15, 2004. Additional formal opportunities for pubic participation after the Pubic Scoping are tentatively scheduled as follows:

Review and comment on Draft EIS (including a public meeting): Summer, 2004.

Review of Final EIS: Fall, 2004.

Notices of availability for the Draft EIS, Final EIS and Record of Decision will be provided through direct mail, the Federal Register, and other media. Notification also will be sent to federal, state, and local agencies and persons and organizations that submit comments or questions. Precise schedules and locations for public meetings will be announced in the local news media. Interested individuals and organizations may request to be included on the mailing list for public distribution of meeting announcements and associated documents.

FOR FURTHER INFORMATION CONTACT: Valerie Nottingham, Chief, Environmental Quality Branch, Division of Environmental Protection, Office of Research Facilities, National Institutes of Health, DHHS, B13/2W64, Bethesda, MD 20892; by telephone (301) 496-7775; fax (301) 480-8056; or e-mail nottingv@ors.od.nih.gov.

Dated: March 9, 2004.
Robert Ostrowski,
Scientific Resource Manager, National Institutes of Health.

[FR Doc. 04-5785 Filed 3-10-04; 8:45 am]

BILLING CODE 4140-01-M